DEPARTMENT OF COMMERCE

U.S. Census Bureau

Submission for OMB Review; Comment Request

The Department of Commerce will submit to the Office of Management and Budget (OMB) for clearance the following proposal for collection of information under the provisions of the Paperwork Reduction Act (44 U.S.C. chapter 35).

Agency: U.S. Census Bureau.

Title: 2018 End-to-End Census Test—Peak Operations.

OMB Control Number: 0607-xxxx.

Form Number(s):

Questionnaires

DH-1

DH-1(E/S)

DH-1(UL)

DH-1(E/S) UL

DH-20

DH-20(S)

DH-61(ICQ) Informational Copy

DH-61(ICQ)(S) Informational Copy

Questionnaire Cover Letters

DH-16(L1)

DH-16(L1)(E/S)

DH-16(L2)

DH-16(L2)(E/S)

DH-16(L3)

DH-16(L3)(E/S)

DH-16(L4)

DH-16(L4)(E/S)

DH-17(L1)

DH-17(L1)(E/S)

Update Leave

DH-16(L2)(UL)

DH-16(L2)(UL)(E/S)

Nonresponse Follow-Up

DH-16(LN)

DH-16(LN)(E/S)

Postcards

DH-9(P)

DH-9(P)(E/S)

DH-9(C)

DH-9(C)(E/S)

DH-9

DH-9(E/S)

DH-9(AR)(E/S)

Information Inserts

DH-17(CQA)

DH-17I(E/S)

DH-17I(E/S)P1

Envelopes

DH-5(E/S)

DH-5(GQ)

DH-5(eResponse)

DH-6A(IN)(UL)(E/S)

DH-6A(IN)

DH-6A(IN)(E/S)

DH-6B(IN)(E/S)

DH-6A(1)(IN)(E/S)

DH-8A

DH-8A(E/S)

DH-40

DH-40(S)

DH-40(GQ)

Brochures

DH-1183 GQE

DH-1184 SBE

Group Quarters Facility Manager Letters

DH-18(eResponse)

DH-18(GQ)

DH-30(L)(FM)(E/S)

DH-30(L)(HC)(E/S)

DH-30(L)(SH)(E/S)

Confidentiality Notice

DH-31(GQ)(E/S)

DH-31(UL)(E/S)

Field Materials

DH-26(E/S)

DH-28(E/S)

DH-28(MU)(E/S)

Re-Interview Form

DH-941(GQE)

Living Quarters Flashcard

DH-1028.4

DH-1028.4(S)

Enumeration Records

Group Quarters Enumeration Record

Regularly Scheduled Mobile Food Van Enumeration Record

Shelter Enumeration Record

Soup Kitchen Enumeration Record

Targeted Non-Sheltered Outdoor Location Enumeration Record

Group Quarters Advance Contact Call Scripts

Soup Kitchen

Non-SBE Group Quarters

Emergency and Transitional Shelters

Mobile Food Vans

Group Quarters eResponse

eResponse video script

eResponse template

Group Quarters Field Materials

DH-116

DH-1054(GQE)

DH-1054(SBE)

DH-1055(GQE)

DH-1059(SE)

Field Enumeration Instrument Specifications

Field Verification (FV)

Non-Response Follow-up/Update Leave Follow-up (NRFU/ULF)

Multi-Unit Manager Visit (MU)

NRFU Re-interview (RI)

Multi-Unit Manager Visit Re-interview (MU RI)

Instrument Specifications

Census Questionnaire Assistance Specifications

Coverage Improvement Screenshots

Type of Request: New Collection.

Number of Respondents: 336,645.

Average Hours Per Response: 10 minutes.

Burden Hours: 55,886 hours.

Test Site—Providence County, Rhode Island
Operation or category | Estimated number of respondents | Estimated time per response (minutes) | Total burden hours
Self-Response—Internet/Telephone/Paper | 114,000 | 10 | 19,000
Nonresponse Follow-up | 163,000 | 10 | 27,167
Nonresponse Follow-up Re-interview | 16,300 | 10 | 2,717
Update Leave Production | 2,000 | 5 | 167
Update Leave QC | 300 | 5 | 25
GQ Advance Contact (facility) | 500 | 10 | 83
GQ SBE—facility contact | 40 | 10 | 7
GQ SBE—person contact | 1,600 | 10 | 267
GQ Enumeration—facility contact | 500 | 10 | 83
GQ Enumeration—person contact | 28,000 | 10 | 4,667
Group Quarters QC | 50 | 5 | 4
Non-ID Processing Phone Follow-up | 115 | 5 | 10
Re-collect | 4,600 | 10 | 767
Field Verification | 140 | 2 | 5
Coverage Improvement | 5,500 | 10 | 917
Totals | 336,645 |  | 55,886

Needs and Uses: During the years preceding the 2020 Census, the Census Bureau will pursue its commitment to reduce the costs of conducting a decennial census while maintaining our commitment to quality. In 2018, the Census Bureau will be performing the 2018 End-to-End Census Test. This last major test before the 2020 Census is designed to (1) test and validate 2020 Census operations, procedures, systems, and field infrastructure to ensure proper integration and conformance with requirements, and (2) produce prototypes of geographic and data products.

New approaches to the design of the 2020 Census are classified into four key innovation areas. These areas have been the subject of Census Bureau testing this decade to identify methodological improvements, technological advances, and possibilities for cost savings. One of these innovation areas is Optimizing Self-Response, which is focused on improving methods for increasing the number of people who take advantage of self-response options, including responding by internet. The 2018 End-to-End Census Test is designed to evaluate several strategies for optimizing self-response, including two contact strategies, either or both of which may be included in the design of the 2020 Census. Two of the other innovation areas—Utilizing Administrative Records and Third-Party Data and Reengineering Field Operations—will be incorporated into the functionality that will be tested in this test. In particular, this Peak Operations portion of the 2018 End-to-End Census Test will encompass operations and systems related to (1) Optimizing Self-Response, including contact strategies, questionnaire content, and language support; (2) Update Leave (UL), including technological and operational testing; (3) Nonresponse Follow-up (NRFU), including technological and operational improvements; and (4) Group Quarters (GQ), including technological and operational testing. The UL and GQ operations are being fielded for the first time this decade.

The remaining innovation area—Reengineering Address Canvassing—contains innovations that have been tested in the 2016 Address Canvassing test and in the 2018 End-to-End Census Test Address Canvassing. The 2018 End-to-End Census Test Address Canvassing precedes the enumeration operations included in and creates the address list for this 2018 End-to-End Census Test Peak Operations test. The Address Canvassing portion of this test was described in an earlier Federal Register Notice and included in a different OMB clearance due to timing considerations.

Optimizing Self-Response is focused on improving methods for increasing the number of people who take advantage of self-response options. The 2018 End-to-End Census Test will include two different mailing strategies to optimize the rate at which the public self-responds to the decennial census, thereby reducing costs of the 2020 Census by decreasing the workload for following up at nonresponding units.

Internet First is the primary mail contact strategy proposed for the 2020 Census and has been used in Census Bureau research and testing efforts since 2012. (In previous tests, this strategy was called Internet Push.) This strategy includes the mailing of a letter encouraging respondents to complete the questionnaire online, two follow-up reminders, after which a paper questionnaire is mailed to nonresponding housing units. A final reminder postcard is the last mailing.

Internet Choice includes a paper questionnaire in the first mailing, along with an invitation to complete the questionnaire online, providing a choice of internet or paper response from the beginning of the contact strategy. (Subsequent mailings are of the same number and type as the Internet First strategy.) This strategy is targeted to households in areas least likely to respond online, as indicated by a number of factors, including internet availability and historical census response rates.

In addition, the 2018 End-to-End Census Test provides the Census Bureau with an opportunity to enhance the user experience, performance, and functionality of the internet self-response instrument.

The Update Leave (UL) operation is designed for areas where the Census Bureau has concerns about accurate mail delivery and needs to determine the Census block location of each housing unit. The current design capitalizes on 2020 Census methodological improvements such as internet self-response and automated field operations. UL is conducted mostly in geographic areas that have one or more of the following characteristics:

• Do not have city-style addresses like 123 Main Street.

• Do not receive mail through city-style addresses.

• Receive mail at post office boxes rather than at physical addresses.

• Have unique challenges associated with accessibility, such as dirt roads or seasonal access.

• Have recently been affected by natural disasters.

• Have high concentrations of seasonally vacant housing.

The following objectives are being tested for Update Leave:

• Integrating listing operation and systems.

• Testing the ability to link a questionnaire ID to an address.

• Testing field supervisor to enumerator ratios.

The 2018 End-to-End Census Test will allow the Census Bureau to continue to refine, optimize, and assess the operational procedures and technical design of the Nonresponse Follow-up (NRFU) operation. NRFU is a field operation for determining housing unit status (occupied, vacant, or delete) and for gathering the enumeration data at addresses for which no self-response was received. This test will build on the results of previous field tests this decade where the NRFU operation has been conducted. In particular, NRFU is now a fully automated operation, whereas it was performed using paper materials in the 2010 Census.

The 2018 End-to-End Census Test will inform Census Bureau technological and operational planning and design for the enumeration of the population residing in group quarters (GQs). GQs are living quarters where people who are typically unrelated have group living arrangements and frequently are receiving some type of service. College/University student housing and nursing/skilled-nursing facilities are examples of GQs. To date, some small-scale testing has been done to test electronic transmission of GQ's enumeration responses. The 2018 End-to-End Census Test expands on these results to allow the opportunity to evaluate procedures and technologies for conducting GQ enumeration operations. The set of operations planned for GQ enumeration is GQ Advance Contact, Service-Based Enumeration, and, finally, GQ Enumeration. These operations have been used in previous censuses. The GQ Advance Contact is an operation where facility contact and planning data are collected, including the ability of the GQ facility to provide electronic records for the enumeration. Service-Based Enumeration has the objective of counting individuals who will not be enumerated at a living quarter but are receiving some type of service. The GQ Enumeration is the final stage of enumerating individuals residing at the GQ.

The Census Bureau recognizes that the OMB is continuing to lead the discussion among federal agencies and other stakeholders on race/ethnicity from the perspective of data collection and dissemination guidance and standards, and that the final determination has not been made on the format of the race/ethnicity question for the 2020 Census. If it is determined that the combined race/ethnicity question format may be used for the 2020 Census (versus the separate race and Hispanic Origin questions used for the 2010 Census), it will be crucial for the Census Bureau to ensure that critical operations are fully prepared to go into production for the 2020 Census using the combined question.

Therefore, the 2018 End-to-End Census Test data collection operations will use the combined race/ethnicity question version (which also includes a Middle Eastern or North African category) to further its analysis and understanding of mode differences for the race/ethnicity responses before deploying the 2020 Census questionnaire. Particular test objectives are:

• Internet Self-Response: Continue testing the combined race/ethnicity question under the further enhancements of the internet self-response instrument for the 2018 End-to-End Census Test in regards to user experience, performance, and functionality; and ensure that the resulting response data and Para data meet the requirements of follow-up and data processing operations.

• Nonresponse Follow-up: Continue testing the combined race/ethnicity question under the further enhancements of the field enumeration instrument; assess enumerators' experience with the field enumeration instrument and their navigation of the race/ethnicity question within the instrument. Input will be gathered during the post-operation field enumerator debriefing sessions.

• Update Leave and Group Quarters: Examine the 2018 End-to-End Census Test results by mode, including Update Leave and Group Quarters operations, which will be fielded for the first time this decade.

The results of this test will inform the Census Bureau's final preparations in advance of the 2020 Census. In particular, conducting a live operation will ensure all the systems, instruments, and processes are functioning correctly or will provide indicators of what needs to be fixed. In addition, metrics collected during the operation will provide additional data to be used for budget and operational planning purposes.

Affected Public: Individuals or Households.

Frequency: One time.

Respondent's Obligation: Mandatory.

Legal Authority: Title 13, United States Code, Sections 141 and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-14726 Filed 7-12-17; 8:45 am]

BILLING CODE 3510-07-P